DEPARTMENT OF DEFENSE

Office of the Secretary

Establishment of Federal Advisory Committee

AGENCY: DoD.

ACTION: Notice.

SUMMARY: Under the provisions of the Federal Advisory Committee Act of 1972, (5. U.S.C. Appendix, as amended), the Government in the Sunshine Act of 1976 (5 U.S.C. 552b, as amended), and 41 CFR 102-3.65, the Department of Defense gives notice that it intends to establish a new Federal advisory committee.

This discretionary advisory committee, the Secretary of the Navy Advisory Panel, will provide the Secretary of the Navy independent advice and recommendations on the critical matters concerning the Department of the Navy. The Panel's focus will include acquisition reform, the shipbuilding defense industrial base, intelligence organization, and related maritime issues. In accordance with DoD policy and procedures, the Secretary of the Navy is authorized to act upon the advice emanating from this advisory committee.

The Secretary of the Navy Panel shall be authorized to establish subcommittees, as necessary and consisted with its mission, and these subcommittees or working groups shall operate under the provisions of the Federal Advisory Committee Act of 1972, the Government in the Sunshine Act of 1976, and other appropriate Federal regulations.

Such subcommittees or workgroups shall not work independently of the chartered committee, and shall report all their recommendations and advice to the Secretary of the Navy Advisory Panel for full deliberation and discussion. Subcommittees or workgroups have no authority to make decisions on behalf of the chartered committee nor can they report directly to the Department of Defense or any Federal officers or employees who are not members of the Secretary of the Navy Advisory Panel.

The Secretary of the Navy Advisory Panel shall be composed of not more than 15 members, who are eminent authorities in the fields of national security policy, intelligence, science, engineering, or business and industry. The Secretary of the Navy Panel, in keeping with the DoD policy to make every effort to achieve a balanced membership, shall include a cross section of experts that are directly affected, interested and qualified to advise on U.S. defense and naval issues.

Panel and subcommittee members appointed by the Secretary of Defense, who are not full-time Federal officers or employees, shall serve as Special Government Employees under the authority of 5 U.S.C. 3109. Panel and subcommittee members shall be appointed on an annual basis by the Secretary of Defense, and with the exception of travel and per diem for official travel, they shall serve without compensation. The Secretary of the Navy shall select the Panel's chairperson from the total Panel membership.

The Secretary of the Navy Advisory Panel shall meet at the call of the Panel's Designated Federal Officer, in consultation with the chairperson. The Designated Federal Officer, pursuant to DoD policy, shall be a full-time or permanent part-time DoD employee, and shall be appointed in accordance with established DoD policies and procedures. The Designated Federal Officer or duly appointed Alternate Designated Federal Officer shall attend all committee and subcommittee meetings.

Pursuant to 41 CFR 102-3.105(j) and 102-3.140, the public or interested organizations may submit written statements to the Secretary of the Navy Advisory Panel membership about the Panel's mission and functions. Written statements may be submitted at any time or in response to the stated agenda of planned meeting of the Secretary of the Navy Advisory Panel.

All written statements shall be submitted to the Designated Federal Officer for the Secretary of the Navy Advisory Panel, and this individual will ensure that the written statements are provided to the membership for their consideration. Contact information for the Secretary of the Navy Advisory Panel's Designated Federal Officer can be obtained from the GSA's FACA Database— https://www.fido.gov/facadatabase/public.asp.

The Designated Federal Officer, pursuant to 41 CFR 102-3.150, will announce planned meetings of the Secretary of the Navy Advisory Panel. The Designated Federal Officer, at that time, may provide additional guidance on the submission of written statements that are in response to the stated agenda for the planned meeting in question.

FOR FURTHER INFORMATION CONTACT: Contact Jim Freeman, DoD Committee Management Office, 703-601-2554, extension 128.

Dated: October 17, 2007.
L.M. Bynum,
Alternate OSD Federal Register Liaison Officer, Department of Defense.

[FR Doc. 07-5218 Filed 10-22-07; 8:45 am]

BILLING CODE 5001-06-M